DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground. * Elevation in feet (NGVD) + Elevation in feet (NAVD) Modified
Town of North Canaan, Connecticut
Docket No.: FEMA-B-7472
Connecticut | Town of North Canaan | Blackberry River | Approximately 700 feet downstream of Route 44 | +656
|  |  | Approximately 1,050 feet upstream of Route 7 | +672
# Depth in feet above ground.
* National Geodetic Vertical Datum.
+ North American Vertical Datum.
ADDRESSES
Maps are available for inspection at Town Hall, 100 Pease Street, Canaan, Connecticut 06018.

State | City/town/county | Source of flooding | Location | * Elevation in feet (NGVD) +Elevation in feet (NAVD) # Depth in feet above ground Modified
Town of Van Buren, Maine
Docket No.: FEMA-B-7708
Maine | Town of Van Buren | Violette Brook | At confluence of Violette Stream | +468
|  |  | Just upstream of Castonguay Road | +530
|  |  | Approximately 2,500 feet upstream of private road at the Corporate Limits | +608
Maine | Town of Van Buren | Violette Stream | At Bangor and Aroostook Railroad | +451
|  |  | At confluence of Violette Brook | +468
|  |  | Approximately 1,000 feet upstream of Champlain Street | +483
* National Geodetic Vertical Datum.
+ North American Vertical Datum.
# Depth in feet above ground.
ADDRESSES
Town of Van Buren
Maps are available for inspection at 51 Main Street, Suite 101, Van Buren, ME 04785.

Flooding source(s) | Location of referenced elevation | * Elevation in feet (NGVD) + Elevation in feet (NAVD) # Depth in feet above ground Modified | Communities affected
Village of Cambridge, New York
Docket No.: FEMA-B-7711
Cambridge Creek | Confluence with Owl Kill | +477 | Village of Cambridge.
| Approximately 3,000 feet upstream of State Route 372 | +508
Owl Kill | Approximately 850 feet upstream of County Route 71 | +466 | Village of Cambridge.
| Approximately 1,000 feet upstream of N. Park Street | +493
White Creek | Corporate limits of Village of Cambridge | +493 | Village of Cambridge.
| Approximately 150 feet downstream of corporate limits of Village of Cambridge | +523
* National Geodetic Vertical Datum.
+ North American Vertical Datum.
# Depth in feet above ground.
ADDRESSES
Village of Cambridge
Maps are available for inspection at 23 West Main Street, Cambridge, NY 12819.
Grand County, Colorado and Incorporated Areas
Docket No.: FEMA-B-7705
Fraser River | Approximately 1,700 ft upstream of the intersection with State Highway 8 | +8550 | Town of Fraser, Grand County, (Unincorporated Areas).
| Approximately 2,445 ft downstream of the confluence with Leland Creek | +8628 |
* National Geodetic Vertical Datum.
+ North American Vertical Datum.
# Depth in feet above ground.
ADDRESSES
Town of Fraser
Maps are available for inspection at 153 Fraser Avenue, Fraser, CO 80442.
Grand County (Unincorporated Areas)
Maps are available for inspection at 308 Byers Avenue, Hot Sulphur Springs, CO 80451.
Edwards County, Kansas and Incorporated Areas
Docket No.: FEMA-B-7705
Arkansas River | At U.S. Highway 50 | +2160 | Edwards County
| Approximately 2 miles upstream of Old U.S. Highway 183 | +2187 | (Unincorporated Areas).
Big Coon Creek | At U.S. Highway 50 | +2164 | Edwards County (Unincorporated Areas), City of Kinsley.
| At Colony Avenue | +2172
| Approximately 1 mile upstream of Winchester Avenue | +2179
Little Coon Creek | At Winchester Avenue | +2169 | Edwards County (Unincorporated Areas).
| Approximately 2 miles upstream of County Road 13 | +2183
* National Geodetic Vertical Datum.
+ North American Vertical Datum.
# Depth in feet above ground.
ADDRESSES
Edwards County (Unincorporated Areas)
Maps are available for inspection at the County Clerk's Office, 312 Massachusetts Avenue, Kinsley, KS 67547.
City of Kinsley
Maps are available for inspection at City Hall, 721 Marsh, Kinsley, KS 67547.
Dodge County, Nebraska and Incorporated Areas
Docket No.: FEMA-B-7705
Platte River (levee failure) | At Downing Street, south of Union Pacific Railroad | +1188 | City of Fremont, City of Inglewood, City of North Bend, Unincorporated Areas of Dodge County.
| At U.S. Highway 77 | +1197
| Approximately 1 mile downstream of State Highway 79 | +1268 1279
| South of U.S. Highway 30 at County Road 5 | +1287
Platte River (levee) | Approximately ½ mile downstream of Burlington Northern Railroad | +1195 | City of Fremont, City of Inglewood, City of North Bend, Dodge County (Unincorporated Areas).
| At U.S. Highway 77 | +1201
| At County Road 19, south of Union Pacific Railroad | +1216
| Approximately 1 mile downstream of State Highway 79 | +1272
| Approximately 1 mile upstream of State Highway 79 | +1285
| South of Union Pacific Railroad, just upstream of County Road 3 | +1300
Platte River Overflow | Just north of 23rd Street, west of Burlington Northern Railroad | #2 | City of Fremont, City of Inglewood, City of North Bend, Dodge County (Unincorporated Areas).
| At the intersection of County Road 5 and County Road S | #2
| Between U.S. Highway 275 and Old Highway 8 | #2
| East of Burlington Northern Railroad and north of U.S. Highway 30/Highway 275 | #2
| Between U.S. Highway 30 and Burlington Northern Railroad, north of Rawhide Creek | #2
| U.S. Highway 77, north of U.S. Highway 30/Highway 275 | +1197
| At County Road 19, north of U.S. Highway 30 | +1212
| At the intersection of County Road 17 and County Road T | +1222
| At County Road 11, north of U.S. Highway 30 | +1255
| At Cottonwood Street, north of U.S. Highway 30 | +1276
* National Geodetic Vertical Datum.
+ North American Vertical Datum.
# Depth in feet above ground.
ADDRESSES
City of Inglewood
Maps are available for inspection at the Inglewood Village Office, 445 Boulevard Street, Fremont, NE 68025.
City of North Bend
Maps are available for inspection at City Hall, North Bend, NE 68649.
Dodge County (Unincorporated Areas)
Maps are available for inspection at Dodge County Zoning Office, 435 N. Park, Fremont, NE 68025.
Cooke County, Texas and Incorporated Areas
Docket No.: FEMA-B-7705
Indian Creek East Lower Reach | At confluence with Lake Ray Roberts | +645 | Cooke County (Unincorporated Areas).
| At Lake Kiowa Dam | +705
Indian Creek East Tributary 1 | At the confluence with Indian Creek East | +645 | Cooke County (Unincorporated Areas).
| Approximately 1,000 feet upstream | +693
Indian Creek East Tributary 2 | At the confluence with Indian Creek East Lower Reach | +663 | Cook County (Unincorporated Areas).
| Approximately 1,000 feet downstream from FM Road 3496 | +724
Indian Creek Upper Reach | At confluence with Lake Kiowa | +705 | Cooke County (Unincorporated Areas).
| Approximately 2500 feet upstream from confluence with Lake Kiowa | +718
Lake Kiowa | Lake Kiowa | +705 | Cooke County (Unincorporated Areas).
Lake Ray Roberts | Lake Ray Roberts | +645 | Cooke County. (Unincorporated Areas).
Pecan Creek North | Approximately 4,000 feet downstream from FM Road 2071 | +703 | Cooke County (Unincorporated Areas).
| Approximately 2,000 feet upstream from I-35 | +783
Pecan Creek South | At the Confluence with Lake Ray Roberts | +645 | City of Valley View, Cooke County (Unincorporated Areas).
| Approximately 750 feet upstream from FM Road 922 | +712
Pecan Creet South Tributary 1 | At the Confluence with Pecan Creek South | +646 | Cooke County (Unincorporated Areas).
| At intersection with FM Road 922 | +687
Persimmon Creek | At confluence with Elm Fork Trinity River | +645 | Cooke County (Unincorporated Areas).
| Approximately 2,000 feet upstream from North Shore Drive | +700
Persimmon Creek Tributary 1 | At confluence with Persimmon Creek (Pioneer Valley Lake) | +664 | Cooke County (Unincorporated Areas).
| Approximately 2,000 feet upstream from confluence with Persimmon Creek (Pioneer Valley Lake) | +689
Persimmon Creek Tributary 2 | Confluence with Persimmon Creek (Pioneer Valley Lake) | +664 | Cooke County (Unincorporated Areas).
| Approximately 1,500 feet upstream from confluence with Persimmon Creek (Pioneer Valley Lake) | +667
Persimmon Creek Tributary 3 | At confluence with Persimmon Creek | +678 | Cooke County (Unincorporated Areas).
| Approximately 1,500 feet upstream from the confluence with Persimmon Creek | +697
Pond Creek | Approximately 1,000 feet downstream from confluence with Pond Creek Tributary 2 (County Border) | +646 | Cooke County (Unincorporated Areas).
| Approximately 1,000 feet downstream from Rail Road (County Border) | +674
Pond Creek Tributary 1 | At the confluence with Pond Creek | +646 | Cooke County (Unincorporated Areas).
| Approximately 1,200 feet upstream from I-35 | +705
Pond Creek Tributary 2 | At the confluence with Pond Creek Tributary | +675 | Cooke County (Unincorporated Areas).
| Approximately 1,000 feet upsteam from I-35 | +702
Tributary Kiowa 1 | Confluence with Lake Kiowa | +705 | Cooke County (Unincorporated Areas).
| Approximately 1,200 feet upstream from confluence with Lake Kiowa | +713
Tributary Kiowa | At confluence with Lake Kiowa | +705 | Cooke County (Unincorporated Areas).
| Approximately 2,500 feet upstream from confluence with Lake Kiowa | +723
Wolf Creek | At the confluence with Lake Ray Roberts | +645 | Cooke County (Unincorporated Areas).
| Approximately 1,000 feet upstream from FM 295 | +746 | Wolf Creek Tributary 1 | At the confluence with Wolf Creek | +681 | Cooke County (Unincorporated Areas).
| Approximately 2,700 feet upstream from confluence with Wolf Creek | +709
* National Geodetic Vertical Datum.
+ North American Vertical Datum.
# Depth in feet above ground.
ADDRESSES
City of Valley View
Maps are available for inspection at 100 South Dixon, Gainesville, TX 76240.
Cooke County (Unincorporated Areas)
Maps are available for inspection at 100 South Dixon, Gainesville, TX 76240.

(Catalog of Federal Domestic Assistance No. 97.022, “Flood Insurance.”)

Dated: June 29, 2009.
David I. Maurstad,
Federal Insurance Administrator of the National Flood Insurance Program, Department of Homeland Security, Federal Emergency Management Agency.

[FR Doc. E9-16519 Filed 7-10-09; 8:45 am]

BILLING CODE 9110-12-P